DEPARTMENT OF STATE

[Public Notice 3641]

Bureau of Educational and Cultural Affairs; Program Title: Israel-Arab Peace Partners Program

NOTICE: Request for grant proposals.

SUMMARY: The Office of Citizen Exchanges of the Bureau of Educational and Cultural Affairs (ECA) of the United States Department of State announces an open competition for grants under the Israel-Arab Peace Partners Program. U.S. public and private non-profit organizations meeting the provisions described in IRS regulation 26 CFR 1.501(c) may submit proposals to develop and implement exchange programs involving participants from Israel and one or more Arab countries or entities in the Middle East or North Africa. Five grant awards are anticipated. Grants will be awarded based on competitiveness. Depending upon the types and number of proposals received, more than one award may be made in some areas of focus and no awards may be made in others.

Program Information

Overview

The Office of Citizen Exchanges of the Bureau of Educational and Cultural Affairs, U.S. Department of State, consults with and supports American public and private nonprofit organizations in developing and implementing multi-phased, often multi-year, exchanges of professionals, academics, youth leaders, public policy advocates, etc. These exchanges are focused on issues crucial both to the United States and to the foreign countries with which the exchange will be conducted. They represent focused, substantive, and cooperative interaction among counterparts, and they entail both theoretical and experiential learning for all participants. A primary goal is the development of sustained, international institutional and individual linkages. In addition to providing a context for professional development and cooperative, international problem-solving, these projects are intended to introduce participants to one another's political, social, and economic structures. Two-way exchange travel should be provided for, and desirable components of an exchange may be local citizen involvement and activities that orient participants to one another's society and culture.

The Israel-Arab Peace Partners Program is based on the premise that people-to-people exchanges—particularly those that are youth oriented and that focus on cooperative efforts in community and institutional development—will contribute to enhanced mutual understanding and will increase the prospect for peaceful co-existence among Middle Eastern societies, specifically between Israel and its Arab neighbors. Participants should include college and graduate students as well as leaders and public policy advocates in various professions. In response to the aspirations of this program, the Office of Citizen Exchanges solicits proposals in five areas of focus. Proposals should respond to the project foci and guidelines suggested below.

1. Dispute Resolution/Conflict Prevention

This exchange should focus on dispute resolution, peer mediation, and conflict prevention and management in the context of community, school, or youth organization activities. It should encourage open dialogue, introduce innovative mediation and arbitration mechanisms, or focus on crisis management, presenting alternatives to the use of violence and extreme force. Potential participants are non-governmental organization activists, mediators, teachers, teacher trainers, youth organization leaders, and older students. The focus should be on initiatives and programs that have been found effective in defusing or managing conflict based on, or exacerbated by, communal differences. The role played by the media in communal conflict, the destructive effects of stereotyping and scapegoating, and the positive potential for youth initiative and activism are all topics that could be addressed. The project should entail two to three phases of international travel, and it should directly involve, in the course of its several phases, 15 to 20 foreign participants and an equal number of American participants, if feasible. Grant requests should not exceed $140,000.

2. Environmental Protection and Environmentally Responsible Development

This exchange should engage community activists, teachers, youth project leaders, and representatives of non-governmental organizations. It should focus on protecting the environment in the public interest, increasing public awareness of and information about environmental issues, civic responsibility, planning and policy advocacy, and activism/volunteerism. Non-governmental organizations that have engaged in grass-roots educational efforts and have mobilized local schools and youth groups to undertake projects to conserve/protect the environment, perhaps including or overlapping with grassroots lobbying efforts or the initiation of public-private cooperative projects, are a model. Suggestions for specific areas of concern are water management, biodiversity/species preservation, industrial pollution and hazardous materials, and solid waste management. The potential for mutually planned and developed nature reserves could also be addressed. The project should entail two to three phases of international travel, and it should directly involve, in the course of its several phases, 15 to 20 foreign participants and an equal number of American participants, if feasible. Grant requests should not exceed $140,000.

3. Democratization and Building Civil Society

This exchange might focus on fostering open dialogue and grassroots activism or on mobilizing public opinion as a factor in policy making. Every hierarchy—political or social—is dominated by certain groups and individuals. However, in a democratic society, if the concerns and preferences of the people are effectively expressed by locally supported interest groups, public policy may be affected. Training should center on identifying issues of common importance to be addressed, mobilizing support, volunteer effort, disseminating information, use of the media, fundraising, and effective communication with leaders. Participants might be youth activists, teachers or other professionals, local community leaders, influential women in the community, etc. The project should entail two to three phases of international travel, and it should directly involve, in the course of its several phases, 15 to 20 foreign participants and an equal number of American participants, if feasible. Grant requests should not exceed $140,000.

4. Enhancing the Rights and Opportunities of Women and/or the Disabled

The goal of this project would be to increase the participation of women and/or other often under-represented groups, such as the disabled, in civic life. This will entail, in many instances, assisting members of disadvantaged groups in understanding their rights; promoting, through community education, an awareness of the need for and advantages of more egalitarian participation; introducing ways of strengthening social integration; and focus on the social welfare infrastructure. Participants would be non-governmental organization activists, representatives of women's groups, youth leaders, and disabled professionals and spokesmen for the disabled. The project should entail two to three phases of international travel, and it should directly involve, in the course of its several phases, 15-20 foreign participants and an equal number of American participants, if feasible. Grant requests should not exceed $140,000.

5. A Community-based Exchange

The applicant should propose a community-based exchange which would bring together, in a sustained series of discussions and site visits, young civic activists, organizational leaders, and public policy advocates in various professions from several communities: one American community, at least one Israeli community, and at least two communities selected from potential partners: Egypt, Jordan, Lebanon, the West Bank/Gaza, Morocco, Tunisia, Bahrain, Kuwait, Qatar, the United Arab Emirates, Oman, and Yemen. This project should focus on a general theme of mutual importance to the participating communities, such as conflict resolution, primary and high school education, administration of justice, preventing corruption in government, social welfare, urban environment, etc. This exchange would involve a greater number of participants than the four projects suggested above. Grant requests should not exceed $190,000.

Suggested activities for the above projects might include:

1. Initial needs assessment/orientation travel (if necessary) by American organizers to develop contacts and relationships with both American Mission officers and counterpart organizations/individuals in the countries with which the exchange will be conducted

2. A U.S.-based program, including orientation to program purposes and to U.S. society, discussions, site visits, limited shadowing or internship opportunities

3. A return visit by selected American professionals/youth to collaborate with participants in the U.S.-based program. This might include site visits, conducting joint workshops, seminars, on-site training, and networking

4. Longer (two-week), intensive, joint internship in the U.S. for two or three selected youth leaders—one Israeli; one or more Arab—from the Middle East

The Office of Citizen Exchanges encourages applicants to be creative in planning project implementation. Activities may include both theoretical orientation and experiential, community-based initiatives designed to achieve concrete objectives.

Applicants should, in their proposals, identify any partner organizations and/or individuals in the U.S. with which/whom they are proposing to collaborate and justify on the basis of experience, accomplishments, etc.

Selection of Participants

Successful applications should include a description of an open, merit-based participant selection process. Applicants should anticipate working closely with the Public Affairs Sections (PAS) of U.S. Embassies abroad in selecting participants, with Embassies retaining the right to nominate participants and to advise the grantee on participants recommended by other entities.

Public Affairs Section Involvement

The Public Affairs Sections of the U.S. Embassies may play an important role in project implementation. Public Affairs Officers evaluate project proposals, and they may serve as a link to in-country partners and participants. At their discretion, they may coordinate planning with the grantee organization and in-country partners, facilitate in-country activities, nominate participants and/or advise on grantee nominations, observe in-country activities, debrief participants, and evaluate project impact. U.S. Missions are responsible for issuing IAP-66 forms in order for foreign participants to obtain the necessary J-1 visas for entry to the United States.

Though project administration and implementation are the responsibility of the grantee, the grantee is expected to inform the PAS in participating countries of its operations and procedures and, where appropriate, to coordinate with PAS officers in the development of project activities. The PAS should be consulted regarding country priorities, security issues, and related logistic and programmatic issues.

Visa Regulations

Foreign participants on programs sponsored by ECA are granted J-1 Exchange Visitor visas by the U.S. Embassy in the sending country. All programs must comply with J-1 visa regulations. Please refer to Solicitation Package for further information.

Budget Guidelines

Applicants must submit a comprehensive line-item budget for the project based on guidance provided in the Proposal Submission Instructions (PSI) of the Solicitation Package. Award amounts are cited above. Grants awarded to organizations with less than four years' experience in conducting international exchange programs will be limited to $60,000.

Awards may not exceed the amounts cited in the guidelines above. There must be a summary budget as well as breakdowns reflecting both administrative and program budgets. Applicants may provide separate sub-budgets for each program component, phase, location, or activity to provide clarification. Proposals that present evidence of cost sharing—in cash or in kind—representing 33% or more of the total cost of the exchange project will receive priority consideration.

Allowable costs include the following:

(1) direct program expenses

(2) administrative expenses, including indirect costs Please refer to the Solicitation Package for budget guidelines and formatting instructions.

Announcement Title and Number

All correspondence with the Bureau concerning this RFGP should reference the above title and number ECA PE/C-01-51

FOR FURTHER INFORMATION, CONTACT: The Office of Citizen Exchanges, ECA/PE/C, Room 224, U.S. Department of State, 301 4th Street, SW., Washington, DC 20547, attention: Thomas Johnston. Telephone number 202/619-5325; fax number 202/619-4350; Internet address to request a Solicitation Package, tjohnsto@pd.state.gov. The Solicitation Package contains detailed award criteria, required application forms, specific budget instructions, and standard guidelines for proposal preparation. Please specify Bureau Program Officer Thomas Johnston on all inquiries and correspondence.

Please read the complete Federal Register announcement before sending inquiries or submitting proposals. Once the RFGP deadline has passed, Bureau staff may not discuss this competition with applicants until the proposal review process has been completed.

To Download a Solicitation Package via Internet

The entire Solicitation Package may be downloaded from the Bureau's website: http://exchanges.state.gov/education/rfgps. Please read all information before downloading.

Deadline for Proposals

All proposal copies must be received at the Bureau of Educational and Cultural Affairs by 5 p.m. Washington, D.C. time on Wednesday, June 13, 2001. Faxed documents will not be accepted at any time. Documents postmarked the due date but received on a later date will not be accepted. Each applicant must ensure that the proposals are received by the above deadline.

Applicants must follow all instructions in the Solicitation Package. The original and ten copies of the application should be sent to: U.S. Department of State, SA-44, Bureau of Educational and Cultural Affairs, Ref.: ECA/PE/C-01-51, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of this goal in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be forwarded to panels of Bureau officers for advisory review. Proposals may also be reviewed by the Office of the Legal Adviser or by other Department elements. Final funding decisions are at the discretion of the Department of State's Acting Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea

Proposals should be substantive, well thought out, focused on issues of demonstrable relevance to all proposed participants, and responsive, in general, to the exchange suggestions and guidelines provided above.

2. Implementation Plan and Ability to Achieve Objectives

A detailed project implementation plan should establish a clear and logical connection between the interest, the expertise, and the logistic capacity of the applicant and the objectives to be achieved. The plan should discuss, in concrete terms, how the institution proposes to achieve the objectives. Institutional resources—including personnel—assigned to the project should be adequate and appropriate to achieve project objectives. The substance of workshops and site visits should be included as an attachment, and the responsibilities of U.S. participants and in-country partners should be clearly described.

3. Institution's Record/Ability

Proposals should include an institutional record of successful exchange programs, with reference to responsible fiscal management and full compliance with reporting requirements. The Bureau will consider the demonstrated potential of new applicants and will evaluate the performance record of prior recipients of Bureau grants as reported by the Bureau grant staff.

4. Follow-on Activities

Proposals should provide a plan for sustained follow-on activity (building on the linkages developed under the grant and the activities initially funded by the grant, after grant funds have been depleted), ensuring that Bureau-supported projects are not isolated events.

5. Project Evaluation/Monitoring

Proposals should include a plan to monitor and evaluate the project's implementation, both as the activities unfold and at the end of the program. Reports should include both accomplishments and problems encountered. A discussion of survey methodology or other disclosure/measurement techniques, plus a description of how outcomes are defined in terms of the project's original objectives, is recommended. Successful applicants will be expected to submit a report after each project component is concluded or semi-annually, whichever is less frequent.

6. Impact

Proposed projects should, through the establishment of substantive, sustainable individual and institutional linkages and through encouraging maximum sharing of information and cross-boundary cooperation, enhance mutual understanding among communities and societies.

7. Cost Effectiveness and Cost Sharing

Administrative costs should be kept low. Proposal budgets that provide evidence of cost sharing comprised of cash or in-kind contributions, representing 33 percent or more of the total cost of the exchange will be given priority consideration. Cost sharing may be derived from diverse sources, including private-sector contributions and/or direct institutional support

8. Support for Diversity

Proposals should demonstrate support for the Bureau's policy on diversity. Features relevant to this policy should be cited in program implementation (selection of participants, program venue, and program evaluation), program content, and program administration.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 6, 2001.
Helena Kane Finn,
Acting Assistant Secretary for Educational and Cultural Affairs, Department of State.

[FR Doc. 01-9187 Filed 4-11-01; 8:45 am]

BILLING CODE 4710-11-U